DEPARTMENT OF TRANSPORTATION

Federal Aviation Administration

14 CFR Part 39

[Docket No. FAA-2011-0261; Directorate Identifier 2011-NM-028-AD; Amendment 39-16648; AD 2011-07-11]

RIN 2120-AA64

Airworthiness Directives; Dassault Aviation Model Mystere-Falcon 50 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

On two occurrences on Mystère-Falcon 50 aeroplanes in service, it was detected that two pipes had been swapped in maintenance at the frame 42 firewall. The swapped lines are the extinguishing system line to engine # 2, and engine # 2 Low Pressure (LP) bleed line.

If the swapping of these two lines is not detected and corrected, in case of engine # 2 fire, the fire extinguishing capability would not be operational.

* * * * *

This AD requires actions that are intended to address the unsafe condition described in the MCAI.

DATES: This AD becomes effective April 18, 2011.

The Director of the Federal Register approved the incorporation by reference of a certain publication listed in the AD as of April 18, 2011.

We must receive comments on this AD by May 16, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone 425-227-1137; fax 425-227-1149.

SUPPLEMENTARY INFORMATION:

Discussion

The European Aviation Safety Agency (EASA), which is the Technical Agent for the Member States of the European Community, has issued EASA Emergency Airworthiness Directive 2011-0025-E, dated February 18, 2011 (referred to after this as “the MCAI”), to correct an unsafe condition for the specified products. The MCAI states:

On two occurrences on Mystère-Falcon 50 aeroplanes in service, it was detected that two pipes had been swapped in maintenance at the frame 42 firewall. The swapped lines are the extinguishing system line to engine # 2, and engine # 2 Low Pressure (LP) bleed line.

If the swapping of these two lines is not detected and corrected, in case of engine # 2 fire, the fire extinguishing capability would not be operational.

For the reasons described above, this [EASA] AD requires an [visual] inspection of the connection of the two lines (extinguishing and LP bleed lines) at frame 42 in the rear compartment and, in case of findings, proper re-installation of the lines. This [EASA] AD requires as well reporting to Dassault Aviation.

This [EASA] AD is considered to be an interim measure and, depending on the inspection results provided by operators, further AD action may follow.

You may obtain further information by examining the MCAI in the AD docket.

Relevant Service Information

Dassault Aviation has issued Service Bulletin F50-519, dated February 18, 2011. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

An unsafe condition exists that requires the immediate adoption of this AD. The FAA has found that the risk to the flying public justifies waiving notice and comment prior to adoption of this rule because the swapping of the number 2 engine fire extinguishing line and the number 2 engine low pressure bleed line results in a dormant failure of the fire extinguishing capabilities of the number 2 engine. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2011-0261; Directorate Identifier 2011-NM-028-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-07-11 Dassault Aviation: Amendment 39-16648. Docket No. FAA-2011-0261; Directorate Identifier 2011-NM-028-AD.

Effective Date

(a) This airworthiness directive (AD) becomes effective April 18, 2011.

Affected ADs

(b) None.

Applicability

(c) This AD applies to Dassault Aviation Model Mystere-Falcon 50 airplanes, all serial numbers, certificated in any category.

Subject

(d) Air Transport Association (ATA) of America Code 26: Fire protection.

Reason

(e) The mandatory continued airworthiness information (MCAI) states:

On two occurrences on Myst́re-Falcon 50 aeroplanes in service, it was detected that two pipes had been swapped in maintenance at the frame 42 firewall. The swapped lines are the extinguishing system line to engine # 2, and engine # 2 Low Pressure (LP) bleed line.

If the swapping of these two lines is not detected and corrected, in case of engine # 2 fire, the fire extinguishing capability would not be operational.

* * * * *

Compliance

(f) You are responsible for having the actions required by this AD performed within the compliance times specified, unless the actions have already been done.

Actions

(g) Within 8 days after the effective date of this AD: Visually inspect the extinguishing system line and the low pressure bleed line of the number 2 engine at frame 42 in the rear compartment to determine proper installation of the lines, in accordance with paragraph 2.B.(1) of the Accomplishment Instructions of Dassault Service Bulletin F50-519, dated February 18, 2011.

(1) If the lines are properly installed, no further action is required by this paragraph.

(2) If the lines are improperly installed, before further flight, do the actions specified in paragraphs (g)(2)(i) and (g)(2)(ii) of this AD, in accordance with paragraph 2.B.(1) of the Accomplishment Instructions of Dassault Service Bulletin F50-519, dated February 18, 2011.

(i) Inspect the improperly installed lines for deformation.

(A) If no deformation is found on the improperly installed lines, before further flight, re-install the lines using the proper connections, in accordance with paragraph 2.B.(1) of the Accomplishment Instructions of Dassault Service Bulletin F50-519, dated February 18, 2011.

(B) If any deformation is found on the improperly installed lines, before further flight, replace the lines in accordance with paragraph 2.B.(1) of the Accomplishment Instructions of Dassault Service Bulletin F50-519, dated February 18, 2011.

(ii) Verify the correct connection of the lines in accordance with paragraph 2.B.(1) of the Accomplishment Instructions of Dassault Service Bulletin F50-519, dated February 18, 2011.

Reporting Requirement

(h) Submit a report of the findings (both positive and negative) of the inspection required by paragraph (g) of this AD to Dassault Aviation, as specified in paragraph 2.B.(2) of the Accomplishment Instructions of Dassault Service Bulletin F50-519, dated February 18, 2011. Submit the report at the applicable time specified in paragraph (h)(1) or (h)(2) of this AD. The report must include the information identified in Dassault Service Bulletin F50-519, dated February 18, 2011. Under the provisions of the Paperwork Reduction Act (44 U.S.C. 3501 et seq.), the Office of Management and Budget (OMB) has approved the information collection requirements contained in this AD and has assigned OMB Control Number 2120-0056.

(1) If the inspection was done on or after the effective date of this AD: Submit the report within 10 days after the inspection.

(2) If the inspection was done before the effective date of this AD: Submit the report within 10 days after the effective date of this AD.

FAA AD Differences

Note 1: This AD differs from the MCAI and/or service information as follows: No Differences.

Other FAA AD Provisions

(i) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue, SW., Renton, Washington 98057-3356; telephone 425-227-1137; fax 425-227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(j) Refer to MCAI European Aviation Safety Agency Emergency Airworthiness Directive 2011-0025-E, dated February 18, 2011; and Dassault Service Bulletin F50-519, dated February 18, 2011; for related information.

Material Incorporated by Reference

(k) You must use Dassault Service Bulletin F50-519, dated February 18, 2011, to do the actions required by this AD, unless the AD specifies otherwise.

(1) The Director of the Federal Register approved the incorporation by reference of this service information under 5 U.S.C. 552(a) and 1 CFR part 51.

(2) For service information identified in this AD, contact Dassault Falcon Jet, P.O. Box 2000, South Hackensack, New Jersey 07606; telephone 201-440-6700; Internet http://www.dassaultfalcon.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on March 21, 2011.
Kalene C. Yanamura,
Acting Manager, Transport Airplane Directorate, Aircraft Certification Service.

[FR Doc. 2011-7427 Filed 3-31-11; 8:45 am]

BILLING CODE 4910-13-P